DEPARTMENT OF THE INTERIOR

National Park Service

[2253-665]

Notice of Inventory Completion: Phoebe A. Hearst Museum of Anthropology at the University of California, Berkeley, CA

AGENCY: National Park Service, Interior.

ACTION: Notice.

SUMMARY: The Phoebe A. Hearst Museum of Anthropology at the University of California, Berkeley, has completed an inventory of human remains and associated funerary objects, in consultation with the appropriate Indian tribes, and has determined that there is a cultural affiliation between the human remains and associated funerary objects and present-day Indian tribes. Representatives of any Indian tribe that believes itself to be culturally affiliated with the human remains and associated funerary objects may contact the Phoebe A. Hearst Museum of Anthropology at the University of California, Berkeley. Repatriation of the human remains and associated funerary objects to the Indian tribes stated below may occur if no additional claimants come forward.

DATES: Representatives of any Indian tribe that wishes to claim a cultural affiliation with the human remains and associated funerary objects should contact the Phoebe A. Hearst Museum of Anthropology at the University of California, Berkeley, at the address below by October 3, 2011.

ADDRESSES: Dr. Anthony Garcia, Phoebe A. Hearst Museum of Anthropology, UC Berkeley, 103 Kroeber Hall, Berkeley, CA 94720-3712, telephone (510) 643-5283.

SUPPLEMENTARY INFORMATION: Notice is here given in accordance with the Native American Graves Protection and Repatriation Act (NAGPRA), 25 U.S.C. 3003, of the completion of an inventory of human remains and associated funerary objects in the possession of the Phoebe A. Hearst Museum of Anthropology at the University of California, Berkeley, CA. The human remains and associated funerary objects were removed from CA-Sac-16, Sacramento County, CA.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains and associated funerary objects was made by the Phoebe A. Hearst Museum of Anthropology at the University of California, Berkeley, in consultation with representatives of the Berry Creek Rancheria of Maidu Indians of California; Buena Vista Rancheria of Me-Wuk Indians of California; Cachil Dehe Band of Wintun Indians; Cortina Indian Rancheria of Wintun Indians of California; California Valley Miwok Tribe, California; Cher-Ae Heights Indian Community of the Trinidad Rancheria, California; Chicken Ranch Rancheria of Me-Wuk Indians of California; Enterprise Rancheria of Maidu Indians of California; Greenville Rancheria of Maidu Indians of California; Ione Band of Miwok Indians of California; Jackson Rancheria of Me-Wuk Indians of California; Mooretown Rancheria of Maidu Indians of California; Shingle Springs Band of Miwok Indians, Shingle Springs Rancheria (Verona Tract), California; Tuolumne Band of Me-Wuk Indians of the Tuolumne Rancheria of California; United Auburn Indian Community of the Auburn Rancheria of California; Washoe Tribe of Nevada & California; Wilton Rancheria, California; and Yocha Dehe Wintun Nation, California (hereinafter “The Tribes”). The Phoebe A. Hearst Museum of Anthropology has also consulted with the Miwok Tribe of the El Dorado Rancheria, a non-Federally recognized Indian Group.

Pursuant to an October 4, 2010, claim by the Shingle Springs Band of Miwok Indians, Shingle Springs Rancheria (Verona Tract), California, the Phoebe A. Hearst Museum of Anthropology has completed a review of its previously submitted Culturally Unidentifiable Inventory of human remains and associated funerary objects for this site. This review was based on additional information submitted by the tribe on behalf of its claim, as well as additional research on the Museum's collections of documentary and physical evidence. As a result, the Museum has revised its original determination that the human remains and associated funerary objects described in this notice were culturally unidentifiable, and has determined them to be culturally affiliated. In addition, the review has resulted in other changes to the inventory. First, it has been determined that there were two catalog numbers listed that are not currently found in the collection, thereby reducing the catalog numbers for the remains to 32. Second, both the number of individuals and associated funerary objects has changed. The minimum number of individuals changed from 46 to 51, and the number of associated funerary objects changed from 117 individual objects to 18 lots of objects.

History and Description of the Remains

Between January 1, 1936, and December 31, 1937, human remains representing a minimum of 51 individuals were collected from CA-Sac-16, in Sacramento County, CA. The excavation was conducted by Sacramento Junior College, and the materials were taken to Sacramento Junior College at that time. Between 1940 to 1942, human remains were brought from Sacramento Junior College to the museum (represented by the catalog numbers 1-238637, 1-238524, 12-8069, 12-6651, 12-6652, 12-6990, 12-11171, 12-11172). Additional human remains were donated by Sacramento Junior College to Gila Pueblo in 1948, and subsequently were transferred to the museum (represented by the catalog numbers 12-7769, 12-7770, 12-7773, 12-7774, 12-7775, 12-7776, 12-7777, 12-7805, 12-7806, 12-7807, 12-7809, 12-7811, 12-7817, 12-7838, 12-7839, 12-7858, 12-7861, 12-7875, 12-7876, 12-7898, 12-7905, 12-7907, 12-7908, 12-7909). No known individuals were identified. The 18 associated funerary objects (representing 18 catalog numbers) are 8 lots of beads, 1 bead fragment, 1 blade, 1 hook, 2 lots of ornaments, 1 projectile point, 1 abalone shell, 1 deer tooth, 1 lot of acorn fragments, and 1 baked clay object.

As previously reported, the overall CA-Sac-16 site appears to represent roughly 2,800 years of human occupation between the Middle Horizon and Euro-American contact in the Central Valley of California. Additional research has now revealed that three of the 32 cataloged human skeletal remains for CA-Sac-16 (12-8069, 12-6651, and 12-6652) may be placed chronologically within the Late Horizon based on an assessment of the directly associated artifacts. Human skeletal remains associated with the remaining 29 catalog numbers cannot currently be placed chronologically or stratigraphically due to lack of provenience documentation, potential comingling of burials during original acquisition, and lack of associated temporal markers or radiometric determinations. These remains were originally reported in the museum's inventory as “culturally unidentifiable.”

The consultation and research conducted as a result of the Shingle Springs Band of Miwok Indians, Shingle Springs Rancheria (Verona Tract), California's request to the Museum for re-assessment of cultural affiliation included a detailed study of the entire collection of 453 temporally diagnostic artifacts (largely projectile points and beads) recovered from the site during recovery of the human remains. That study has demonstrated that 97% of these artifacts are chronologically attributable to the Late Horizon, and has established a shared group identity between The Tribes (as well as the Miwok Tribe of the El Dorado Rancheria, a non-Federally recognized Indian Group), and the earlier identifiable group represented by the Late Horizon human remains and associated funerary objects in the CA-SAC-16 assemblage inventoried herein. Further confirmation of this cultural affiliation is the correspondence of CA-Sac-16 to the ethnohistorically described village of Nawrean. A full review of the collections has failed to identify any evidence of earlier remains in the holdings from CA-SAC-16. Therefore, cultural affiliation with extant tribes which occupied this area aboriginally can now be established by a preponderance of the evidence.

Determinations Made by the Phoebe A. Hearst Museum of Anthropology at the University of California, Berkeley

Officials of the Phoebe A. Hearst Museum of Anthropology at the University of California, Berkeley, have determined that:

• Pursuant to 25 U.S.C. 3001(9), the human remains described in this notice most likely represent the physical remains of 51 individuals of Native American ancestry.

• Pursuant to 25 U.S.C. 3001(3)(A), the 18 objects described above are reasonably believed to have been placed with or near individual human remains at the time of death or later as part of the death rite or ceremony.

• Pursuant to 25 U.S.C. 3001(2), there is a relationship of shared group identity that can be reasonably traced between the Native American human remains and associated funerary objects and The Tribes, and the Miwok Tribe of the El Dorado Rancheria, a non-Federally recognized Indian Group.

Additional Requestors and Disposition

Representatives from any other Indian tribe that believes itself to be culturally affiliated with the human remains and associated funerary objects should contact Dr. Anthony Garcia, Phoebe A. Hearst Museum of Anthropology, UC Berkeley, 103 Kroeber Hall, Berkeley, CA 94720-3712, telephone (510) 643-5283, before October 3, 2011. Repatriation of the human remains and associated funerary objects to The Tribes may proceed after that date if no additional claimants come forward.

The Phoebe A. Hearst Museum of Anthropology at the University of California, Berkeley, is responsible for notifying The Tribes, and the Miwok Tribe of the El Dorado Rancheria, a non-Federally recognized Indian Group, that this notice has been published.

Dated: August 29, 2011.
Sherry Hutt,
Manager, National NAGPRA Program.

[FR Doc. 2011-22426 Filed 8-31-11; 8:45 am]

BILLING CODE 4312-50-P